DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before October 31, 2022.

ADDRESSES: You may submit comments identified by Docket No. MSHA-2022-0048 by any of the following methods:

1. Federal eRulemaking Portal: https://www.regulations.gov. Follow the instructions for submitting comments for MSHA-2022-0048.

2. Fax: 202-693-9441.

3. Email: petitioncomments@dol.gov.

4. Regular Mail or Hand Delivery: MSHA, Office of Standards, Regulations, and Variances, 201 12th Street South, Suite 4E401, Arlington, Virginia 22202-5452, Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2022-018-C.

Petitioner: Buchanan Minerals, LLC, Company, PO Drawer L, Oakwood VA 24631.

Mine: Buchanan No. 1 Mine, MSHA ID No. 44-04856 located in Buchanan County, Virginia.

Regulation Affected: 30 CFR 75.1100-2 (b), Quantity and location of firefighting equipment.

Modification Request: The petitioner requests a modification of 30 CFR 75.1100-2 (b) to allow an alternative to the installation of a parallel waterline along the entire length of the belt conveyor that will be utilized in the development of three-entry longwall headgate and subsequent longwall retreat sections. The petitioner proposes installing the waterline in the adjacent entry to the belt conveyor and extending the distance between fire hydrants to 320 feet on three-entry longwall headgate development and subsequent longwall retreat sections.

The petitioner states that:

(a) Currently, as numbered left to right, No.1 entry serves as the return, No. 2 entry serves as the intake/track entry, and No. 3 entry serves as the belt entry.

(b) The headings are on 160-foot centers and the crosscuts from the No.2 Entry to the No.3 Entry are on 60-foot centers. The No. 2 intake/track entry is isolated from the No. 3 belt entry by permanent cement block stoppings. The mine seam heights are 48 inches or higher. In accordance with 30 CFR 75.333 (c) (1), personnel doors are installed at distances not to exceed 600 feet.

(c) A 6-inch waterline is installed along the full length of the track.

(d) The following two methods are utilized to facilitate the requirements of 30 CFR 75.1100-2 (b):

(1) A 2-inch waterline is installed along the belt conveyor with fire valves installed at intervals of 300 feet.

(2) The 2-inch waterline is supplied via the 6-inch line through taps at intervals necessary to ensure flow rate requirements are met; or a 2-inch waterline is branched off the 6-inch waterline at every break and extended over to the No. 3 belt entry with a corresponding fire valve fitted on the end of each branch.

(e) The new gateroad design will utilize 1,000-foot-wide longwall faces and require crosscuts to be driven on 160-foot centers. This crosscut spacing is critical to the global stability of the mine environment. The design was reviewed by MSHA's Technical Support Roof Control Group which found it to have merit.

(f) The petitioner is applying to reconfigure the 6-inch waterline in the adjacent entry to the belt conveyor and extend the distance between fire hydrants from 300 feet to 320 feet on three-entry longwall headgate development and subsequent longwall retreat sections. The waterline will be located in the No. 2 intake/track entry with the exception of a final connection that will extend the waterline to the section loading point in the No. 3 belt entry. Additional fire-fighting equipment will be staged and enhanced access between the No. 2 and No. 3 entry will be instituted. The utilization of the waterline in the No. 2 intake/track entry will facilitate both the installation of the waterline during development and removal upon longwall retreat mining.

(g) Should an issue arise affecting the water delivery system, the problem can be readily identified due to the waterline's location along the track that is more frequently traveled than the belt entry.

(h) With the waterline located in the No. 2 intake/track entry as compared to the No. 3 belt entry, it is less likely to be compromised due to fire and extreme heat exposure resulting in pressure loss.

(i) The alternative waterline installation will require less material handling thus reducing the risk of injury, especially hand and back-related injuries.

(j) The additional fire hose, fire hose nozzles, and three-way manifold will provide enough firefighting capability to adequately charge two fire-fighting hoses that can reach the corresponding break of the next fire valve location.

(k) The delivery of individuals and firefighting materials is simplified and expedited by the utilization of the track. This, in conjunction with the readily available and easily identifiable fire valves, will lessen the response time to contain and extinguish a fire.

(l) To simplify training, the fire valve location can be explained as located in every other break along the track entry.

(m) The initial steps of hooking up the fire-fighting equipment to the fire valve will take place in the isolated intake escapeway.

(n) For command-and-control purposes, communication and tracking systems are optimal in the No. 2 intake/track entry.

The petitioner proposes the following alternative method:

(a) The 6-inch waterline shall be installed in an entry adjacent to the conveyor belt entry with the fire hydrants located at the crosscuts connecting the intake/track entry and the belt entry. The 6-inch waterline will be located along the rib line nearest to the No. 3 belt entry.

(b) The fire hydrants shall be spaced not more than 320 feet apart.

(c) The fire hydrants shall be operable, clearly identified, and positioned such that the hose can be quickly connected to the outlet in the event of an emergency.

(d) Access to the fire hydrants shall be maintained clear of obstructions.

(e) Signs shall be conspicuously placed in the belt entry indicating the location of each fire hydrant.

(f) Between the No. 2 intake/track entry and the No. 3 belt entry, personnel doors shall be installed at distances not to exceed 320 feet and maintained in operable condition in the stopping opposite each fire hydrant to allow easy access to the hydrant.

(g) In addition to the 500 feet of fire hose required by 30 CFR 75.1100-2 (b), at least 300 feet of extra fire hose shall be kept in the immediate area of the section belt drive. The strategically located fire hose shall be sufficient in length so that any affected area on the belt can be covered from the most proximate fire hose outlet. Two fire hose nozzles and a three-way manifold shall be provided in the fire hose cache.

(h) A fire valve shall be installed at the section tailpiece and will be supplied by a suitably sized and rated water hose extending from the 6-inch waterline. If required, additional fire valves shall be installed in the suitably sized and rated water hose between the 6-inch waterline and section tailpiece to maintain the 320-foot interval. The fire valves shall be capable of delivering a minimum of 50 gallons of water a minute at a nozzle pressure of 50 pounds per square inch.

(i) Prior to implementing the Proposed Decision and Order, all persons who inspect, install, and maintain the waterline shall be instructed in the special terms and conditions of this alternative method. Within 60 days after the Proposed Decision and Order becomes final, the petitioner shall submit proposed revisions for their approved 30 CFR part 48 training plan to the Coal Mine Safety and Health District Manager. These proposed revisions shall specify initial and refresher training regarding the alternative method outlined in the Proposed Decision and Order and the special terms and conditions stated in the Proposed Decision and Order.

The petitioner asserts that the alternative method proposed will at all times guarantee no less than the same measure of protection afforded the miners under the mandatory standard.

Song-ae Aromie Noe,
Director, Office of Standards, Regulations, and Variances.

[FR Doc. 2022-21094 Filed 9-28-22; 8:45 am]

BILLING CODE 4520-43-P